DEPARTMENT OF ENERGY

Federal Energy Regulatory Commission

[Docket PL04-8-000]

U.S.-Canada Power System Outage Task Force Workshop on Electric Reliability Standards; Notice of Workshop

May 4, 2004.

Take notice that the U.S.-Canada Power System Outage Task Force and the Federal Energy Regulatory Commission will co-host a technical workshop on Friday May 14, 2004, to discuss the improvement of North American electric reliability standards and other recommendations included by the U.S.-Canada Power System Outage Task Force in its April 2004 Report (available at: http://www.ferc.gov/cust-protect/moi/blackout.asp).

The workshop will be held at the Commission's Washington, DC headquarters, 888 First St., NE., 20426. The workshop is scheduled to begin at 9 a.m. in the Commission Meeting Room, Room 2-C.

Representatives from the United States Department of Energy, Natural Resources Canada, Ontario Ministry of Energy, North American Electric Reliability Council, and related industry representatives will participate with FERC Commissioners in addressing the immediate and long-term measures that may be taken to ensure a reliable electric system, a critical element to the economic and national security of both the United States and Canada.

Selected panelists will be invited to participate in this workshop; requests to make presentations will not be entertained. All interested persons may attend.

Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.org and click on “FERC.”

For more information about the conference, please contact Sarah McKinley at 202-502-8004 (sarah.mckinley@ferc.gov).

Magalie R. Salas,
Secretary.

Attachment 1

U.S.-Canada Power System Outage Task Force Workshop on Electric Reliability Standards

Agenda

(1) Opening comments by the Governmental conveners (15 minutes).

• Natural Resources Canada and Ontario Ministry of Energy.

• U.S. Department of Energy and Federal Energy Regulatory Commission.

(2) Status of current industry standards and policies (45 minutes).

• Content of existing standards, policies and guidelines (NERC).

• Timing of evolution into clear, ANSI-process-adopted standards

Invited speakers and brief opportunity for audience comments.

(3) Based on the findings and recommendations of the blackout investigation, discussion of any necessary changes in the reliability standards (60 minutes).

• Existing topics in current standards/policies/guidelines (NERC).

• Discussion of areas that require standards not currently covered in the NERC standards (NERC, FERC).

• Discussion of priorities to complete or clarify the most reliability-critical issues and standards first.

Invited speakers and brief opportunity for audience comments.

(4) Timing and process for standards revision and development (60 minutes).

• Next steps, process and schedule (NERC).

• Any modifications needed to next steps, process and schedule given reliability needs?

• Appropriate role for the governments and agencies.

Invited speakers from NERC and brief opportunity for audience comments.

(5) Reliability readiness audits and other issues not covered above (30 minutes).

(6) Closing comments and commitments (20 minutes).

[FR Doc. E4-1112 Filed 5-12-04; 8:45 am]

BILLING CODE 6717-01-P